DEPARTMENT OF AGRICULTURE

Forest Service

Sierra County, CA, Resource Advisory Committee

AGENCY: Forest Service, USDA.

ACTION: Notice of meeting.

SUMMARY: The Sierra County Resource Advisory Committee (RAC) will meet on March 18, 2002, is Sierra City, California. The purpose of the meeting is to discuss issues relating to implementing the Secure Rural Schools and Community Self-Determination Act of 2000 (Payments to States) and the expenditure of Title II funds benefiting National Forest System lands on the Humboldt-Toiyabe, Plumas and Tahoe National Forests in Sierra County.

DATES: The meeting will be held March 18, 2002, from 1:30 p.m. to 4:30 p.m. If a storm or other difficulty presents itself, a backup meeting date is scheduled for March 25, 2001, at the same time and location.

ADDRESSES: The meeting will be held at the Sierra City Community Hall, 14 Castagna Alley, Sierra City, CA.

FOR FURTHER INFORMATION CONTACT: Ann Westling, Committee Coordinator, USDA, Tahoe National Forest, 631 Coyote St, Nevada City, CA, 95959, (530) 478-6205, e-mail: awestling@fs.fed.us

SUPPLEMENTARY INFORMATION: Agenda items to be covered include: (1) Welcome and introductions; (2) review of previous meeting and meeting minutes; (3) discussion and decision on criteria for Sierra County RAC projects; (4) presentation of project ideas and ranking of project ideas. The meeting is open to the public and the public will have an opportunity to comment at the meeting.

Dated: February 14, 2002.
Steven T. Eubanks,
Forest Supervisor.

[FR Doc. 02-4107 Filed 2-20-02; 8:45 am]

BILLING CODE 3410-11-M